DEPARTMENT OF THE TREASURY

Terrorism Risk Insurance Program; Program Loss Reporting

AGENCY: Departmental Offices, Terrorism Risk Insurance Program Office, Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Terrorism Risk Insurance Program Office is seeking comments regarding existing forms and instructions for Program Loss Reporting.

DATES: Written comments should be received on or before August 27, 2007 to be assured of consideration.

ADDRESSES: Submit comments by e-mail to triacomments@do.treas.gov or by mail (if hard copy, preferably an original and two copies) to: Terrorism Risk Insurance Program, Public Comment Record, Suite 2100, Department of the Treasury, 1425 New York Ave., NW., Washington, DC 20220. Because paper mail in the Washington, DC area may be subject to delay, it is recommended that comments be submitted electronically. All comments should be captioned with “Program Loss Reporting—Comments.” Please include your name, affiliation, address, e-mail address, and telephone number in your comment. Comments will be available for public inspection by appointment only at the Reading Room of the Treasury Library. To make appointments, call (202) 622-0990 (not a toll-free number).

FOR FURTHER INFORMATION CONTACT: Requests for additional information should be directed to: Terrorism Risk Insurance Program Office at (202) 622-6770 (not a toll-free number).

SUPPLEMENTARY INFORMATION: OMB Number: 1506-0200.

Title: Terrorism Risk Insurance Program—Program Loss Reporting.

Form: Treasury TRIP-01 [Initial Notice of Insured Loss] and TRIP 02 [Certification of Loss] and Supporting Schedules.

Abstract: Sections 103(a) and 104 of the Terrorism Risk Insurance Act of 2002 (Public Law 107-297) authorize the Department of the Treasury to administer and implement the temporary Terrorism Risk Insurance Program established by the Act. In 31 CFR part 50, Subpart F (Sec. 50.50-50.55) Treasury established requirements and procedures for insurers that file claims for payment of the Federal share of compensation for insured losses resulting from a certified act of terrorism under the Act. Following a Certified Act of Terrorism, insurers would be required to submit an Initial Notice of Insured Loss on Form TRIP-01 and Initial and Supplementary Certifications of Loss on Form TRIP-02.

Type of Review: Extension of currently approved collection.

Affected Public: Business or other for-profit, Federal Government.

Estimated Number of Respondents: 100.

Estimated Time per Respondent: 42 hours.

Estimated Total Annual Burden Hours: 4,200 hours.

Request for Comments: An agency may not conduct or sponsor, and a person is not required to respond to, a collection of information unless the collection of information displays a valid OMB control number. Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: June 20, 2007.
Jeffrey S. Bragg,
Director, Terrorism Risk Insurance Program.

[FR Doc. E7-12313 Filed 6-25-07; 8:45 am]

BILLING CODE 4811-42-P